COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be furnished by nonprofit agencies employing persons who are blind or have other severe disabilities, and deletes a product and services from the Procurement List previously furnished by such agencies.

DATES: Date added to and deleted from the Procurement List: April 19, 2020

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

On 12/13/2020 and 12/20/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Custodial Service

Mandatory for: Department of Defense Education Activity, Fort Campbell Schools, Fort Campbell, KY

Mandatory Source of Supply: Global Connections to Employment, Inc., Pensacola, FL

Contracting Activity: DEPT OF DEFENSE EDUCATION ACTIVITY (DODEA), DOD EDUCATION ACTIVITY

The Committee finds good cause to dispense with the 30-day delay in the effective date normally required by the Administrative Procedure Act. See 5 U.S.C. 553(d). This addition to the Committee's Procurement List is effectuated because of the expiration of the Custodial Service, DoDEA, Fort Campbell Schools, Fort Campbell, KY. The Federal customer contacted, and has worked diligently with the AbilityOne Program to fulfill this service need under the AbilityOne Program. To avoid performance disruption, and the possibility that the DoDEA will refer its business elsewhere, this addition must be effective on March 31, 2020, ensuring timely execution for a April 1, 2020, start date while still allowing 11 days for comment. Pursuant to its own regulation 41 CFR 51-2.4, the Committee has been in contact with the affected parties, specifically the incumbent of the expiring contract, since April 2019, and determined that no severe adverse financial impact exists. The Committee also published a notice of proposed Procurement List addition in the Federal Register on December 13, 2019, and did not receive any comments from any interested persons, including from the incumbent contractor. This addition will not create a public hardship and has limited effect on the public at large. This action will create new jobs for other affected parties, namely people with significant disabilities in the AbilityOne Program who otherwise face challenges obtaining and maintaining employment. Moreover, this addition will enable Federal customer operations to continue without interruption.

Service Type: Centralized Appointment Call Center

Mandatory for: U.S. Air Force, Medical Treatment Facility, Eglin Air Force Base, FL

Mandatory Source of Supply: Bobby Dodd Institute, Inc., Atlanta, GA

Contracting Activity: DEPT OF THE AIR FORCE, FA2823 AFTC PZIO

The Committee finds good cause to dispense with the 30-day delay in the effective date normally required by the Administrative Procedure Act. See 5 U.S.C. 553(d). This addition to the Committee's Procurement List is effectuated because of the expiration of the U.S. Air Force, Medical Appointment and Referral Call Center contract. The Federal customer contacted and has worked diligently with the AbilityOne Program to fulfill this service need under the AbilityOne Program. To avoid performance disruption, and the possibility that the U.S. Air Force will refer its business elsewhere, this addition must be effective on March 31, 2020, ensuring timely execution for an April 1, 2020, start date while still allowing 11 days for comment. Pursuant to its own regulation 41 CFR 51-2.4, the Committee conducted an impact analysis on the current contractor and determined that no severe adverse financial impact will result from the Committee's decision. The incumbent graduated from the Small Business Administration's 8(a) Program, and is no longer eligible for award of the requirement, which will remain under the 8(a) Program if not placed on the Procurement List. The Committee also published a notice of proposed Procurement List addition in the Federal Register on December 13, 2019, and did not receive any comments from any interested persons, including from the incumbent contractor. This addition will not create a public hardship and has limited effect on the public at large, but, rather, will create new jobs for other affected parties—people with significant disabilities in the AbilityOne Program who otherwise face challenges obtaining and maintaining employment. Moreover, this addition will enable Federal customer operations to continue without interruption.

Service Type: Information Technology Service Desk Operations

Mandatory for: US Army, Human Resources Command, Fort Knox, KY

Mandatory Source of Supply: InspiriTec, Inc., Philadelphia, PA

Contracting Activity: DEPT OF THE ARMY, W6QM MICC-FT KNOX

The Committee finds good cause to dispense with the 30-day delay in the effective date normally required by the Administrative Procedure Act. See 5 U.S.C. 553(d). This addition to the Committee's Procurement List is effectuated because of the expiration of the U.S. Army, Information Technology Service Desk Operations, Human Resources Command, MICC, Fort Knox, KY contract. The Federal customer contacted and has worked diligently with the AbilityOne Program to fulfill this service need under the AbilityOne Program. To avoid performance disruption, and the possibility that the U.S. Army will refer its business elsewhere, this addition must be effective on March 31, 2020, ensuring timely execution for an April 1, 2020, start date while still allowing 11 days for comment. Pursuant to its own regulation 41 CFR 51-2.4, the Committee conducted an impact analysis on the current contractor and determined there will be no severe adverse financial impact as a result of the Committee's decision. The contract value involved represents less than one-tenth of one percent (<0.01%) of the incumbent contractor's annual revenue. The Committee also published a notice of proposed Procurement List addition in the Federal Register on December 20, 2019, and did not receive any comments from any interested persons, including from the incumbent contractor. This addition will not create a public hardship and has limited effect on the public at large, and will create new jobs for other affected parties—people with significant disabilities in the AbilityOne Program who otherwise face challenges obtaining and maintaining employment. Moreover, this addition will enable Federal customer operations to continue without interruption.

Deletions

On 2/14/2020, the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Product

NSN—Product Name:

MR 11056—Grocery Shopping Tote Bag, Laminated, Halloween, Trick or Treat, Small

Mandatory Source of Supply: Industries for the Blind and Visually Impaired, Inc., West Allis, WI

Contracting Activity: Military Resale-Defense Commissary Agency

Services

Service Type: Switchboard Operation

Mandatory for: Veterans Affairs Medical Center: 3601 South 6th Avenue, WASHIINGTON, DC

Mandatory Source of Supply: Southern Arizona Association for the Visually Impaired deleted, Tucson, AZ

Contracting Activity: VETERANS AFFAIRS, DEPARTMENT OF, NAC

Service Type: Janitorial/Custodial

Mandatory for: Veterans Affairs Medical Center, Omaha, NE

Contracting Activity: VETERANS AFFAIRS, DEPARTMENT OF, NAC

Service Type: Custodial Services

Mandatory for: Food and Drug Administration, 1114 Market Street (9th & 10th floors only), St. Louis, MO

Mandatory Source of Supply: MGI Services Corporation, St. Louis, MO

Contracting Activity: PUBLIC BUILDINGS SERVICE, GSA/PUBLIC BUILDINGS SERVICE

Service Type: Janitorial/Custodial

Mandatory for: U.S. Federal Building and Post Office, Bozeman, MT

Contracting Activity: GENERAL SERVICES ADMINISTRATION, FPDS AGENCY COORDINATOR

Service Type: Janitorial/Custodial

Mandatory for: Federal Center: 620 Central Avenue, Alameda, CA

Mandatory Source of Supply: Rubicon Programs, Inc., Richmond, CA

Contracting Activity: GENERAL SERVICES ADMINISTRATION, FPDS AGENCY COORDINATOR

Service Type: Janitorial/Custodial

Mandatory for: Southeast Federal Center: Building at 49 L Street SE, Washington, DC

Mandatory Source of Supply: Davis Memorial Goodwill Industries, Washington, DC

Contracting Activity: PUBLIC BUILDINGS SERVICE, WPHCC—WEST O&M CONTRACTS BRANCH

Service Type: Custodial Services

Mandatory for: DLA WARREN DEPOT, WARREN OH

Mandatory Source of Supply: VGS, Inc., Cleveland, OH

Contracting Activity: DEFENSE LOGISTICS AGENCY, DLA STRATEGIC MATERIALS

Service Type: Janitorial/Custodial

Mandatory for: Social Security Administration, Clinton, MD

Mandatory Source of Supply: Davis Memorial Goodwill Industries, Washington, DC

Contracting Activity: GENERAL SERVICES ADMINISTRATION, FPDS AGENCY COORDINATOR

Service Type: Janitorial/Custodial

Mandatory for: U.S. Army Reserve Center: 271 Hedges Street Scouten, Mansfield, OH

Contracting Activity: DEPT OF THE ARMY, W6QM MICC FT MCCOY (RC)

Service Type: Janitorial/Custodial Service

Mandatory for: Social Security Administration District Office Building, Montclair, New Jersey

Mandatory Source of Supply: Fedcap Rehabilitation Services, Inc., New York, NY

Contracting Activity: PUBLIC BUILDINGS SERVICE, GSA PBS R2 ACQUISITION MANAGEMENT DIVISION

Service Type: Janitorial/Custodial

Mandatory for: Fort McPherson: USARC Headquarters, Atlanta, GA

Contracting Activity: DEPT OF THE ARMY, W6QM MICC-FDO FT SAM HOUSTON

Service Type: Litter Pickup

Mandatory for: Robins Air Force Base, Robins AFB, GA

Contracting Activity: DEPT OF THE AIR FORCE, FA8501 AFSC PZIO

Service Type: Vehicle Retrofitting Srvc limited to FPI surplus

Mandatory for: Good Vocations, Inc., Macon, GA

Mandatory Source of Supply: Good Vocations, Inc., Macon, GA

Contracting Activity: BUREAU OF CUSTOMS AND BORDER PROTECTION, SBI ACQUISITION OFFICE

Service Type: Administrative Service

Mandatory for: Federal Office Building: 225 W. King Street, Martinsburg, WV

Mandatory Source of Supply: Job Squad, Inc., Bridgeport, WV

Contracting Activity: GENERAL SERVICES ADMINISTRATION, FPDS AGENCY COORDINATOR

Service Type: Administrative Support, Supply and Warehousing Service

Mandatory for: Orlando Naval Training Center, Orlando, FL

Contracting Activity: DEPT OF THE NAVY, NAVAL AIR WARFARE CENTER

Service Type: Grounds Maintenance

Mandatory for: Fort Gillem: SE Army Reserve Intelligence Center, Fort Gillem, GA

Contracting Activity: DEPT OF THE ARMY, W40M RHCO-ATLANTIC USAHCA

Service Type: Grounds Maintenance

Mandatory for: U.S. Army Reserve Center: 1011 George Boulevard, Akron, OH

Contracting Activity: DEPT OF THE ARMY, W40M RHCO-ATLANTIC USAHCA

Service Type: Janitorial/Custodial

Mandatory for: US Army Reserve, SGT George Lenkalis USARC, West Hazleton, PA

Mandatory Source of Supply: Portco, Inc., Portsmouth, VA

Contracting Activity: DEPT OF THE ARMY, W6QK ACC-PICA

Service Type: Janitorial/Grounds Maintenance

Mandatory for: Tucson Air Operations, Tucson, AZ

Mandatory Source of Supply: J.P. Industries, Inc., Tucson, AZ

Contracting Activity: U.S. CUSTOMS AND BORDER PROTECTION, BORDER ENFORCEMENT CONTRACTING DIVISION

Service Type: Facility Support Services

Mandatory for: Social Security Administration: Southeastern Program Service Center, Birmingham, AL

Mandatory Source of Supply: Alabama Goodwill Industries, Inc., Birmingham, AL

Contracting Activity: SOCIAL SECURITY ADMINISTRATION, REGION 04—SOUTHEAST PROGRAM SERVICE CENTER

Service Type: Demilitarization of Military Hardware

Mandatory for: Robins Air Force Base, Robins AFB, GA

Contracting Activity: DEPT OF THE AIR FORCE, FA8501 AFSC PZIO

Service Type: Operation of Postal Service Center

Mandatory for: Shaw Air Force Base, Shaw AFB, SC

Contracting Activity: DEPT OF THE AIR FORCE, FA4803 20 CONS LGCA

Michael R. Jurkowski,
Deputy Director, Business & PL Operations.

[FR Doc. 2020-05938 Filed 3-19-20; 8:45 am]

BILLING CODE 6353-01-P